DEPARTMENT OF DEFENSE

Office of the Secretary

Meeting of Department of Defense Federal Advisory Committees—Defense Innovation Board

AGENCY: Office of the Under Secretary of Defense for Research and Engineering, Department of Defense (DoD).

ACTION: Meeting of Federal advisory committee.

SUMMARY: The DoD is publishing this notice to announce that the following Federal Advisory Committee meeting of the Defense Innovation Board (DIB) will take place.

DATES: Open to the public January 26, 2024, 10:00 a.m. to 11:30 a.m. Closed to the public January 26, 2024, 1:00 p.m. to 4:30 p.m. All Eastern Standard Time (EST).

ADDRESSES: The open portion of the DIB meeting will take place at the Pentagon and will be accessible to the public virtually; the closed portion of the meeting will be held in the Pentagon.

FOR FURTHER INFORMATION CONTACT: Dr. Marina Theodotou, the Designated Federal Officer (DFO) at (571) 372-7344 (voice) or osd.innovation@mail.mil. Mailing address is Defense Innovation Board, 4800 Mark Center Drive, Suite 15D08, Alexandria, VA 22350-3600. Website: https://innovation.defense.gov. The most up-to-date changes to the meeting agenda and link to the virtual meeting can be found on the website.

SUPPLEMENTARY INFORMATION: This meeting is being held under the provisions of chapter 10 of title 5, United States Code (U.S.C.) (commonly known as the “Federal Advisory Committee Act” or “FACA”), 5 U.S.C. 552b (commonly known as the “Government in the Sunshine Act”), and 41 Code of Federal Regulations (CFR) 102-3.140 and 102-3.150.

Due to circumstances beyond the control of the DFO and the DoD, the DIB was unable to provide public notification required by 41 CFR 102-3.150(a) concerning its January 26, 2024 meeting. Accordingly, the Advisory Committee Management Officer for the Department of Defense, pursuant to 41 CFR 102-3.150(b), waives the 15-calendar day notification requirement.

Purpose of Meeting: The mission of the DIB is to provide the Secretary of Defense, the Deputy Secretary of Defense, and the Under Secretary of Defense for Research and Engineering (USD(R&E)) independent advice and strategic insights on emerging and disruptive technologies and their impact on national security, adoption of commercial sector innovation best practices, and ways to leverage the U.S. innovation ecosystem to align structures, processes, and human capital practices to accelerate and scale innovation adoption, foster a culture of innovation and an experimentation mindset, and enable the DoD to build enduring advantages. The DIB focuses on innovation-related issues and topics raised by the Secretary of Defense, the Deputy Secretary of Defense, or the USD(R&E). The objective of this DIB meeting is to obtain, review, and evaluate information related to the DIB's mission and studies.

Agenda: The DIB's open portion of the meeting will take place on January 26, 2024 from 10:00 a.m. to 11:30 a.m. The DFO, Dr. Marina Theodotou, will open the meeting and introduce the DIB Chair, Michael Bloomberg for his welcome and opening remarks. The DIB will present its findings and recommendations for deliberation and vote on two current studies: “Lowering Barriers to Innovation” and “Building a DoD Data Economy”. Subsequently, the DFO will read public comments into the meeting record, and then, the Chair will then preview new study topics followed by closing remarks. The DFO will then adjourn the open session.

The DIB's closed portion of the meeting will take place January 26, 2024, from 1:00 p.m. to 4:30 p.m. During this time, the DIB will meet with senior Department leaders and other Subject Matter Experts from Industry and Academia to receive insights to receive related to leveraging capabilities to remain at the forefront of innovation, innovative technology adoption, and other strategic challenges that the DoD is currently facing related to innovation with allies and partners.

Meeting Accessibility: In accordance with section 1009(d) of the FACA and 41 CFR 102-3.155, the DoD has determined that part of the DIB meeting will be closed to the public on January 26, 2024, 1:00 p.m. to 4:30 p.m. Specifically, the USD(R&E), as the DIB Sponsor, in consultation with the DoD Office of General Counsel, has determined in writing that this portion of the meeting will be closed to the public because the DIB will consider matters covered by 5 U.S.C. 552b(c)(1). The determination is based on the classified nature of discussions related to national security. Such classified material is so intertwined with the unclassified material that it cannot reasonably be segregated into separate discussions without defeating the effectiveness and meaning of the overall meeting.

Pursuant to Federal statutes and regulations (the FACA and 41 CFR 102-3.140 and 102-3.150), the open portion of the meeting will be accessible to the public virtually on January 26, 2024, from 10:00 a.m. to 11:30 a.m. Members of the public wishing to attend the meeting virtually will be able to access a link published on the DIB website the morning of the meeting.

Written Statements: Pursuant to 41 CFR 102-3.105(j) and 102-3.140 and section 1009(a)(3) of the FACA, the public or interested organizations may submit written comments or statements to the DIB in response to the stated agenda of the meeting or regarding the DIB's mission in general. Written comments or statements should be submitted to Dr. Marina Theodotou, the DFO, via email to osd.innovation@mail.mil. Comments or statements must include the author's name, title or affiliation, address, and daytime phone number. The DFO must receive written comments or statements being submitted in response to the agenda set forth in this notice by 12:00 p.m. on January 23, 2024, to be considered by the DIB. The DFO will review all timely submitted written comments or statements with the DIB Chair and ensure the comments are provided to all members before the meeting. Written comments or statements received after this date may not be provided to the DIB until its next scheduled meeting. Please note that all submitted comments and statements will be treated as public documents and will be made available for public inspection, including, but not limited to, being posted on the DIB's website.

Dated: January 17, 2024.
Aaron T. Siegel,
Alternate OSD Federal Register Liaison Officer, Department of Defense.

[FR Doc. 2024-01226 Filed 1-22-24; 8:45 am]

BILLING CODE 6001-FR-P